DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census General Classification Report.

Form Number(s): NC-99023, NC-99023-L-1, NC-99023-L-11, NC-99500.

Agency Approval Number: None.

Type of Request: New collection.

Burden: FY 2002-38,333, FY 2003-66,666.

Number of Respondents: 600,000.

Avg. Hours Per Response: Under 6 minutes.

Needs and Uses: Accurate and reliable industry and geographic codes are critical to the Census Bureau's economic statistical programs. New businesses are assigned industry classifications by the Social Security Administration (SSA). Approximately 4 percent of these businesses cannot be assigned industry codes because insufficient information is provided on the Internal Revenue Service (IRS) Form SS-4. Since the 1997 Economic Census, the number of unclassified businesses has grown to almost 250,000. In order to provide detailed industry data for the 2002 Economic Census and the Business Register (Standard Statistical Establishment Listing (SSEL)), these unclassified businesses must be assigned North American Industry Classification System (NAICS) codes. During the 2002 Economic Census, the NC-99023, 2002 Economic Census General Classification Report will be used to collect information from unclassified single-unit establishments. In 2001, the year prior to the census, this form will be used to collect information from: 1) establishments with a significant amount of receipts but no payroll; 2) new businesses with a large amount of payroll, but insufficient industry classification; and 3) establishments that have been previously classified as farms, but report large amounts of non-farm payroll.

Establishments with significant receipts but no payroll are normally excluded from the economic census. This data collection will determine accurate NAICS codes and identify whether or not these establishments are within the scope of the 2002 Economic Census. New business classifications by the SSA are not always fully coded because of insufficient information. This operation will assign NAICS codes to the unclassified units and ensure that the appropriate form will be mailed to the businesses during the census. In addition, establishments currently classified as farms but reporting substantial amounts of non-farm payroll may be incorrectly classified and excluded from the 2002 Economic Census. This operation will determine whether or not these establishments are in scope of the 2002 Economic Census.

The mail out of the NC-99023 form in 2001 will also include the new Ownership and Control form (NC-99500). Based on responses to this form, establishments identified as having an affiliation and/or multiple locations of operation will be set up in the Business Register (SSEL) as multi-unit companies with appropriate industry classifications prior to the 2002 Economic Census.

Affected Public: Businesses or other for-profit organizations, not-for-profit institutions.

Frequency: Every five years.

Respondent's Obligation: Mandatory.

Legal Authority: Title 13, U.S.C., Sections 131 and 224.

OMB Desk Officer: Susan Schechter, (202) 395-5103.

Copies of the above information collection proposal can be obtained by calling or writing Madeleine Clayton, Departmental Paperwork Clearance Officer, (202)482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: June 1, 2001.
Madeleine Clayton,
Departmental Paperwork Clearance Officer, Office of the Chief Information Officer.

[FR Doc. 01-14241 Filed 6-5-01; 8:45 am]

BILLING CODE 3510-07-P